DEPARTMENT OF HEALTH AND HUMAN SERVICES

Agency for Toxic Substances and Disease Registry

[Docket No. ATSDR-2018-0004]

Availability of Draft Interaction Profile for Mixtures of Insecticides: Pyrethroids, Organophosphorus Compounds, and Carbamates

AGENCY: Agency for Toxic substances and Disease Registry (ATSDR), Department of Health and Human Services (HHS).

ACTION: Notice of availability; request for comments.

SUMMARY: The Agency for Toxic Substances and Disease Registry (ATSDR), within the Department of Health and Human Services (HHS) announces the availability of the Draft Interaction Profile for Mixtures of Insecticides: Pyrethroids, Organophosphorus Compounds, and Carbamates for review and comment. This interaction profile evaluates a mixture of chemicals often found in human blood, adipose tissue, and breast milk. The purpose of this interaction profile is to investigate the possible joint actions of these chemicals on endocrine, developmental, and neurobehavioral endpoints in humans. This interaction profile has undergone external peer-review and review by ATSDR's Interagency Workgroup on Mixtures.

ATSDR remains committed to providing a public comment period for these documents as a means to best serve public health and the public.

DATES: Comments must be submitted by August 13, 2018.

ADDRESSES: You may submit comments, identified by docket number ATSDR-2018-0004, by any of the following methods:

• Internet: Access the Federal eRulemaking Portal at www.regulations.gov. Follow the instructions for submitting comments.

• Mail: Division of Toxicology and Human Health Sciences, Agency for Toxic Substances and Disease Registry, 1600 Clifton Rd. NE, MS F-57, Atlanta, GA 30329, Attn: Docket ATSDR-2018-0004.

Instructions: All submissions must include the agency name and docket number for this notice. All relevant comments will be posted without change. This means that no confidential business information or other confidential information should be submitted in response to this notice.

FOR FURTHER INFORMATION CONTACT: Dr. Hana Pohl, Division of Toxicology and Human Health Sciences, Agency for Toxic Substances and Disease Registry, 1600 Clifton Rd. NE, MS F-57, Atlanta, GA 30329. Telephone: 770.488.3355. Email: hrp1@cdc.gov.

SUPPLEMENTARY INFORMATION: ATSDR develops interaction profiles for hazardous substances found at the National Priorities List (NPL) sites under Sections 104(i)(3) and (5) of the Comprehensive Environmental Response, Compensation, and Liability Act of 1980 (CERCLA), as amended by the Superfund Amendments and Reauthorization Act of 1986 (SARA). This law requires that ATSDR assess whether or not adequate information on health effects is available for priority hazardous substances. Where such information is not available or under development, ATSDR shall, in cooperation with the National Toxicology Program, initiate a research program to determine these health effects. The Act further directs that, where feasible, ATSDR shall develop methods to determine the health effects of these priority hazardous substances in combination with other substances commonly found with them.

To carry out these legislative mandates, ATSDR has created a chemical mixtures program and developed a document, “Framework for Assessing Health Impacts of Multiple Chemicals and Other Stressors,” that outlines the latest methods for mixtures health assessment. The Framework document is available online at https://www.atsdr.cdc.gov/interactionprofiles/ipga.html. In addition, a series of documents, called “interaction profiles,” is developed for certain priority mixtures that are of special concern to ATSDR. To recommend approaches for the exposure-based assessment of the potential hazard to public health, an interaction profile evaluates data on the toxicology of the whole priority mixture, if available, and on the joint toxic action of the chemicals in the mixture.

Availability

The Draft Interaction Profile for Mixtures of Insecticides: Pyrethroids, Organophosphorus Compounds, and Carbamates is available online at https://www.atsdr.cdc.gov/interactionprofiles/index.asp and at www.regulations.gov, Docket No. ATSDR-2018-0004.

Pamela I. Protzel Berman,
Director, Office of Policy, Planning and Partnerships, Agency for Toxic Substances and Disease Registry.

[FR Doc. 2018-10204 Filed 5-11-18; 8:45 am]

BILLING CODE 4163-70-P